DEPARTMENT OF HEALTH AND HUMAN SERVICES

Substance Abuse and Mental Health Services Administration

Agency Information Collection Activities: Submission for OMB Review; Comment Request

Periodically, the Substance Abuse and Mental Health Services Administration (SAMHSA) will publish a summary of information collection requests under OMB review, in compliance with the Paperwork Reduction Act (44 U.S.C. Chapter 35). To request a copy of these documents, call the SAMHSA Reports Clearance Officer on (240) 276-0361.

Proposed Project: Pretesting of Substance Abuse Prevention and Treatment and Mental Health Services Communications Messages—(OMB No. 0930-0196)—Reinstatement

As the federal agency responsible for developing and disseminating authoritative knowledge about substance abuse prevention, addiction treatment, and mental health services and for mobilizing consumer support and increasing public understanding to overcome the stigma attached to addiction and mental illness, SAMHSA is responsible for development and dissemination of a wide range of education and information materials for both the general public and the professional communities. This submission is for generic approval and will provide for formative and qualitative evaluation activities to; (1) assess audience knowledge, attitudes, behavior and other characteristics for the planning and development of messages, communication strategies and public information programs; and (2) test these messages, strategies and program components in developmental form to assess audience comprehension, reactions, and perceptions. Information obtained from testing can then be used to improve materials and strategies while revisions are still affordable and possible. The annual burden associated with these activities is summarized below.

Activity | Number of respondents | Responses/ respondent | Hours per response | Total hours | Hourly wage rate ($) ¹ | Total Hour cost ($)
Individual In-depth Interviews:
General Public | 400 | 1 | .75 | 300 | $25.00 | 7,500
Service Providers | 200 | 1 | .75 | 150 | 35.00 | 5,250
Focus Group Interviews:
General Public | 3,000 | 1 | 1.5 | 4,500 | 25.00 | 112,500
Service Providers | 1,500 | 1 | 1.5 | 2,250 | 35.00 | 78,750
Telephone Interviews:
General Public | 335 | 1 | .08 | 27 | 25.00 | 675
Service Providers | 165 | 1 | .08 | 13 | 35.00 | 455
Self-Administered Questionnaires:
General Public | 2,680 | 1 | .25 | 670 | 25.00 | 16,750
Service Providers | 1,320 | 1 | .25 | 330 | 35.00 | 11,550
Gatekeeper Reviews:
General Public | 1,200 | 1 | .50 | 600 | 25.00 | 15,000
Service Providers | 900 | 1 | .50 | 450 | 35.00 | 15,750
Total | 11,700 |  |  | 9,290 |  | 264,180
¹ The hourly wage of $25.00 for the general public was calculated based on weighted data from the 2019 NSDUH respondents' personal annual income. The $35 hourly wage rate for providers is an average across counselors and other service provider staff.

Written comments and recommendations concerning the proposed information collection should be sent by April 21, 2022 to the SAMHSA Desk Officer at the Office of Information and Regulatory Affairs, Office of Management and Budget (OMB). Written comments and recommendations for the proposed information collection should be sent within 30 days of publication of this notice to www.reginfo.gov/public/do/PRAMain. Find this particular information collection by selecting “Currently under 30-day Review—Open for Public Comments” or by using the search function.

Carlos Graham,
Reports Clearance Officer.

[FR Doc. 2022-06051 Filed 3-21-22; 8:45 am]

BILLING CODE 4162-20-P